DEPARTMENT OF HOMELAND SECURITY

Federal Emergency Management Agency

[Docket ID FEMA-2014-0022]

Technical Mapping Advisory Council

AGENCY: Federal Emergency Management Agency, DHS.

ACTION: Committee management; notice of Federal advisory committee meeting.

SUMMARY: The Federal Emergency Management Agency (FEMA) Technical Mapping Advisory Council (TMAC) will meet in person on August 10-11, 2016 in Reston, VA. The meeting will be open to the public.

DATES: The TMAC will meet on Wednesday, August 10, 2016 from 8:00 a.m.-5:30 p.m. Eastern Daylight Time (EDT), and Thursday, August 11, 2016 from 8:00 a.m.-5:00 p.m. EDT. Please note that the meeting will close early if the TMAC has completed its business.

ADDRESSES: The meeting will be held in the auditorium of the United States Geological Survey (USGS) headquarters building located at 12201 Sunrise Valley Drive, Reston, VA 20192. Members of the public who wish to attend the meeting must register in advance by sending an email to FEMA-TMAC@fema.dhs.gov (Attention: Kathleen Boyer) by 11:00 p.m. EDT on Wednesday, August 3, 2016. Members of the public must check in at the USGS Visitor's entrance security desk; photo identification is required.

For information on facilities or services for individuals with disabilities or to request special assistance at the meeting, contact the person listed in FOR FURTHER INFORMATION CONTACT: below as soon as possible.

To facilitate public participation, members of the public are invited to provide written comments on the issues to be considered by the TMAC, as listed in the SUPPLEMENTARY INFORMATION section below. Associated meeting materials will be available at www.fema.gov/TMAC for review by Tuesday, August 2, 2016. Written comments to be considered by the committee at the time of the meeting must be submitted and received by Wednesday, August 3, 2016, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For docket access to read background documents or comments received by the TMAC, go to http://www.regulations.gov and search for the Docket ID FEMA-2014-0022.

A public comment period will be held on Wednesday, August 10, 2016, from 4:00 to 4:30 p.m. EDT and again on Thursday, August 11, 2016, from 3:00 to 3:30 p.m. EDT. Speakers are requested to limit their comments to no more than three minutes. The public comment period will not exceed 30 minutes. Please note that the public comment period may end before the time indicated, following the last call for comments. Contact the individual listed below to register as a speaker by close of business on Tuesday, August 9, 2016.

FOR FURTHER INFORMATION CONTACT: Kathleen Boyer, Designated Federal Officer for the TMAC, FEMA, 400 C Street SW., Washington, DC 20024, telephone (202) 646-4023, and email Kathleen.boyer@fema.dhs.gov. The TMAC Web site is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: The TMAC will review and discuss potential recommendations for the required 2016 TMAC Annual Report. TMAC members may receive briefings from subject matter experts. In addition, the TMAC members will identify and coordinate on the TMAC's next steps for Annual Report production. A brief public comment period will take place at the beginning of each day during the meeting and prior to any vote. The full agenda and related briefing materials will be posted for review by August 3, 2016 at http://www.fema.gov/TMAC.

Dated: July 9, 2016.
Roy E. Wright,
Deputy Associate Administrator for Insurance and Mitigation, Federal Emergency Management Agency.

[FR Doc. 2016-17735 Filed 7-26-16; 8:45 am]

BILLING CODE 9110-12-P